DEPARTMENT OF HEALTH AND HUMAN SERVICES

Meeting of the Pain Management Best Practices Inter-Agency Task Force; Amendment

AGENCY: Office of the Assistant Secretary for Health, Office of the Secretary, Department of Health and Human Services.

ACTION: Notice; amendment.

SUMMARY: A notice was published in the Federal Register on Thursday, May 3, 2018, to announce the inaugural meeting of the Pain Management Best Practices Inter-Agency Task Force (Task Force) and to invite the public to provide public comments. The period for written comments is currently scheduled to end close of business on May 25, 2018. The notice is being amended to extend the written public comment period for two weeks to allow more time for interested individuals to submit comments.

DATES: The written public comment period has been extended. All written comments are due to be submitted on or before June 15, 2018.

ADDRESSES: Individuals submitting written comments should submit their comments through the Federal eRulemaking Portal at http://www.regulations.gov.

FOR FURTHER INFORMATION CONTACT: Alicia Richmond Scott, Designated Federal Official, Pain Management Best Practices Inter-Agency Task Force, U.S. Department of Health and Human Services, Office of the Assistant Secretary for Health, 200 Independence Avenue SW, Room 736E, Washington, DC 20201. Email: paintaskforce@hhs.gov. Telephone: (240) 453-2816.

Dated: May 24, 2018.
Vanila M. Singh,
Chief Medical Officer, HHS Office of the Assistant Secretary for Health.

[FR Doc. 2018-11747 Filed 5-31-18; 8:45 am]

BILLING CODE 4150-28-P